DEPARTMENT OF HEALTH AND HUMAN SERVICES

Food and Drug Administration

[Docket No. FDA-2009-N-0664]

Meeting To Discuss Women's Health

AGENCY: Food and Drug Administration, HHS.

ACTION: Notice of meeting.

The Food and Drug Administration (FDA), Office of Women's Health is announcing the following meeting: “Women's Health Dialogue.” The meeting is intended for directors of national organizations interested in discussing women's health research and educational out reach.

Date and Time: The meeting will be held on February 9, 2009, from 8:30 a.m. to 11:30 a.m.

Location: The meeting will be held at HMA Associates, Inc., 1101 17th St., NW., suite 1102, Washington, DC 20036.

Contact: Deborah Kallgren, FDA Office of Women's Health (HF-8), Food and Drug Administration, 5600 Fishers Lane, rm. 16-65, Rockville, MD 20857, 301-827-0350, FAX: 301-827-9194, e-mail: deborah.kallgren@fda.hhs.gov.

Registration: There is no registration fee, but preregistration is required. Send registration information (including name, title, firm name, address, telephone, and fax number) to Deborah Kallgren. Seating is limited to 15 participants (1 person per organization).

If you need special accommodations due to a disability, please contact Deborah Kallgren at least 7 days in advance (by February 2, 2009).

Dated: January 7, 2009.
Jeffrey Shuren,
Associate Commissioner for Policy and Planning.

[FR Doc. E9-367 Filed 1-9-09; 8:45 am]

BILLING CODE 4160-01-S